ENVIRONMENTAL PROTECTION AGENCY

[FRL-7549-8]

Tracer-Test Planning Using the Efficient Hydrologic Tracer-Test Design (EHTD) Program

AGENCY: Environmental Protection Agency.

ACTION: Notice of availability of final document.

SUMMARY: The U. S. Environmental Protection Agency (EPA) announces the availability of a final document and associated computer program, Tracer-Test Planning Using the Efficient Hydrologic Tracer-Test Design (EHTD) Program (EPA/600/R-03/034, April 2003). This document was prepared by the U.S. Environmental Protection Agency's (EPA) National Center for Environmental Assessment (NCEA) of the Office of Research and Development (ORD).

The purpose of this document is to serve as a technical guide to various groups who must address potential or existing contamination problems in hydrologic systems using trace tests. Hydrologic complexities and inadequate data tends to relegate initial tracer-test designs regarding appropriate tracer masses and sample collection times to simple conjecture. This document and associated computer program alleviate some of these problems.

EHTD produces a detailed assessment of expected tracer-test results before a tracer test is ever initiated. It also produces a probable tracer-breakthrough curve for each sampling station. Preliminary testing of EHTD has shown it to be reliable in most instances.

DATES: This document will be available soon.

ADDRESSES: This document is available electronically through the NCEA Web site at (www.epa.gov/ncea). A limited number of paper copies will be available from the EPA's National Service Center for Environmental Publications (NSCEP) in Cincinnati, OH (telephone: 1-800-490-9198 or 513-489-8190; facsimile: 513-489-8695; or via the Internet at http://www.epa.gov/NCEPIhome/orderpub.html). Please provide your name, mailing address, the title, and EPA number of the requested publication when ordering from NSCEP. Copies may also be purchased from the National Technical Information Service (NTIS) in Springfield, Virginia; telephone: 1-800-553-NTIS[6847] or 703-605-6000; facsimile: 703-321-8547. Please provide the number PB2003-103271 when ordering from NTIS.

FOR FURTHER INFORMATION CONTACT: For further information, please contact Malcolm Field (202-564-3279) mailing address: National Center for Environmental Assessment (8623D), U.S. Environmental Protection Agency, 1200 Pennsylvania Avenue, NW., Washington, DC 20460; facsimile: 202-565-0079; e-mail: field.malcolm@epa.gov.

Dated: August 18, 2003.
Peter W. Preuss,
Director, National Center for Environmental Assessment.

[FR Doc. 03-21934 Filed 8-26-03; 8:45 am]

BILLING CODE 6560-50-P